ENVIRONMENTAL PROTECTION AGENCY

[FRL-7209-4]

Agency Information Collection Activities: Continuing Collection; Comment Request; RCRA Hazardous Waste Permit Application and Modification, Part A

AGENCY: Environmental Protection Agency (EPA).

ACTION: Notice.

SUMMARY: In compliance with the Paperwork Reduction Act (44 U.S.C. 3501 et seq.), this notice announces that EPA is planning to submit the following continuing Information Collection Requests (ICR) to the Office of Management and Budget (OMB): RCRA Hazardous Waste Permit Application and Modification, Part A, EPA ICR #262.10, OMB No. 2050-0034, expires on October 31,2002. Before submitting the ICR to OMB for review and approval, EPA is soliciting comments on specific aspects of the proposed information collection as described below.

DATES: Comments must be submitted on or before July 8, 2002.

ADDRESSES: Commenters must send an original and two copies of their comments referencing docket number F-2002-RWPN-FFFFF to: RCRA Docket Information Center, Office of Solid Waste (5305G), U. S. Environmental Protection Agency Headquarters (EPA, HQ) Ariel Rios Building, 1200 Pennsylvania Avenue NW., Washington, DC 20460. Hand deliveries of comments should be made to the Arlington, VA address below. Comments may also be submitted electronically through the Internet to : rcra-docket@epamail.epa.gov. Comments in electronic format should also be identified by the docket number F-2002-RWPN-FFFFF. All electronic comments must be submitted as an ASCII file avoiding the use of special characters and any form of encryption.

Commenters should not submit any confidential business information (CBI) electronically. An original and two copies of CBI must be submitted under separate cover to: RCRA CBI Document Control Officer, Office of Solid Waste (5305W), U.S. EPA, Ariel Rios Building, 1200 Pennsylvania Avenue NW., Washington, DC 20460.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling (703) 603-9230. The public may copy a maximum of 100 pages from any regulatory docket at no charge. Additional copies cost $0.15/page. This document and the supporting documents that detail the RCRA Permit Application and Modification, Part A ICR are also electronically available. See the SUPPLEMENTARY INFORMATION section for information on accessing them.

FOR FURTHER INFORMATION CONTACT:

RCRA Hotline

For general information, contact the RCRA Hotline at (800) 424-9346, or TDD (800) 553-7672 (hearing impaired). In the Washington, DC metropolitan area, call (703) 412-9810, or TDD (703) 412-3323.

Part A ICR Details

For more detailed information on specific aspects of the Part A information collection request, contact David Eberly by mail at the Office of Solid Waste (5303W), U.S. Environmental Protection Agency, 1200 Pennsylvania Avenue NW, Washington, DC 20460, by phone at (703) 308-8645, or by Internet e-mail at: eberly.david@epamail.epa.gov.

SUPPLEMENTARY INFORMATION:

Internet Availability

Today's document and the supporting documents that detail the RCRA Hazardous Waste Permit Application and Modification, Part A ICR are available on the Internet at: http//www.epa.gov/epaoswer/hazwaste/notify/index.htm.

Note: The official record for this action will be kept in paper form and maintained at the address in the ADDRESSES section above.

Affected Entities: Entities potentially affected by this action are generators, transporters and owners and operators of hazardous waste management facilities.

Title: RCRA Hazardous Waste Permit Application and Modification, Part A, EPA ICR #262.10, OMB No. 2050-0034, expires on October 31, 2002.

Abstract: Section 3010 of Subtitle C of RCRA, as amended, requires any person who generates or transports regulated waste or who owns or operates a facility for the treatment, storage, or disposal (TSDF) of regulated waste to notify EPA of their activities, including the location and general description of activities and the regulated wastes handled. Section 3005 of Subtitle C of RCRA requires TSDFs to obtain a permit. To obtain the permit, the TSDF must submit an application describing the facility's operation. There are two parts to the RCRA permit application—Part A and Part B. Part A defines the processes to be used for treatment, storage, and disposal of hazardous wastes: the design capacity of such processes: and the specific hazardous wastes to be handled at the facility. Part B requires detailed site specific information such as geologic, hydrologic, and engineering data.

An agency may not conduct or sponsor, and a person is not required to respond to, a collection of information unless it displays a currently valid OMB control number. The OMB control numbers for EPA's regulations are listed in 40 CFR part 9 and 48 CFR Chapter 15. The Agency today begins an effort to examine the notification and Part A permit application forms and consider options for reducing their burden and increasing the usefulness of the information these forms collect. The Agency would appreciate any information on the users of this information, how they use this information, how the information could be improved, and how the burden for these forms can be reduced.

Therefore, the EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated average burden for renewing the existing Part A ICR is approximately 25 hours per respondent for submitting a new Part A permit application and approximately 15 hours for submitting a revised Part A permit application. The burden estimates for the Part A ICR includes time for reading the regulations, preparing and submitting initial and revised Part A permit applications, preparing and submitting justifications for changes and preparing and submitting subpart H compliance demonstrations.

For Part A permit applications, EPA estimates that the number of respondents per year is 10 for new Part A permit applications and 49 for Part A revisions. For these ICRs, collection occurs one-time per respondent, unless regulations are revised and promulgated. Timing of the submission of the notification and the Part A permit application forms are variable depending on the status of the respondent and the timing of the promulgation of the regulations. The estimated total annual burden on respondents for new and revised Part A permit applications is 893 hours. These estimates of total annual burden reflect a decrease in burden of 5.5% for Part A permit applications when compared with the previously approved ICR (1999).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 26, 2002.
Matthew Hale,
Acting Director, Office of Solid Waste.

[FR Doc. 02-11654 Filed 5-8-02; 8:45 am]

BILLING CODE 6560-50-P